DEPARTMENT OF LABOR

Employment and Training Administration

[TA-W-65,162]

Dana Holding Corporation, Humboldt, TN; Notice of Termination of Investigation

Pursuant to Section 221 of the Trade Act of 1974, as amended, an investigation was initiated on February 6, 2009 in response to a worker petition filed by the American Federation of Labor and Congress of Industrial Organizations (AFL-CIO) on behalf of workers of Dana Holding Corporation, Humboldt, Tennessee.

The petitioner has requested that the petition be withdrawn. Consequently, the investigation has been terminated.

Signed at Washington, DC, this 31st day of March 2009.
Elliott S. Kushner,
Certifying Officer, Division of Trade Adjustment Assistance.

[FR Doc. E9-10212 Filed 5-4-09; 8:45 am]

BILLING CODE 4510-FN-P